DEPARTMENT OF DEFENSE

Defense Logistics Agency

Privacy Act of 1974; Computer Matching Program

AGENCY: Defense Manpower Data Center (DMDC), Department of Defense, the Administration for Children and Families (ACF), Department of Health and Human Services and State Public Assistance Agencies (SPAA) for Verification of Continued Eligibility for Public Assistance.

ACTION: Notice of a computer matching program.

SUMMARY: Subsection (e)(12) of the Privacy Act of 1974, as amended (5 U.S.C. 552a), requires agencies to publish advanced notices of any proposed or revise computer matching program by the matching agency for public comment. The Department of Defense (DoD), as the matching agency under the Privacy Act, is hereby giving notice to the record subjects of a computer matching program between Department of Health and Human Services (DHHS) and the Department of Defense (DoD) that their records are being matched by computer. The purpose the computer matching program is to exchange personal data for purposes of identifying individuals who are receiving Federal compensation or pension payments and also are receiving payments pursuant to Federal benefit programs being administered by the States.

DATES: This proposed action will become effective April 3, 2002, and matching may commence unless changes to the matching program are required due to public comments or by Congressional or by Office of Management and Budget objections. Any public comment must be received before the effective date.

ADDRESSES: Any interested party may submit written comments to the Director, Defense Privacy Office, 1941 Jefferson Davis Highway, Suite 920, Arlington, VA 22202-4502.

FOR FURTHER INFORMATION CONTACT: Mr. Vahan Moushegian, Jr. at (703) 607-2943.

SUPPLEMENTARY INFORMATION: Pursuant to subsection (o) of the Privacy Act of 1974, as amended, (5 U.S.C. 552a), the DHHS and DMDC have concluded an agreement to conduct a computer matching program between agencies. The purpose of the computer matching program is to exchange personal data for purposes of identifying individuals who are receiving Federal compensation or pension payments and also are receiving payments pursuant to Federal benefit programs being administered by the States.

The parties to this agreement have determined that a computer matching program is the most efficient, expeditious, and effective means of obtaining and processing the information needed by ACF and the SPAAs to identify individuals who may be ineligible for public assistance benefits. The principal alternative to using a computer matching program for identifying such individuals would be to conduct a manual comparison of all Federal personnel records with SPAA records of those individuals currently receiving public assistance under a Federal benefit program being administered by the State. Conducting a manual match, however, would clearly impose a considerable administrative burden, constitute a greater intrusion of the individual's privacy, and would result in additional delay in the eventual recovery of the outstanding debts.

A copy of the computer matching agreement between DHHS and DoD is available upon request. Requests should be submitted to the address caption above or to the Administration for Children and Families, 370 L'Enfant Promenade, SW., Washington, DC 20447.

Set forth below is the notice of the establishment of a computer matching program required by paragraph 6.c. of the Office of Management and Budget Guidelines on computer matching published on June 19, 1989, at 54 FR 25818.

The matching agreement, as required by 5 U.S.C. 552a(r) of the Privacy Act, and an advance copy of this notice was submitted on February 19, 2002, to the House Committee on Government Reform, the Senate Committee on Governmental Affairs, and the Administrator of the Office of Information and Regulatory Affairs, Office of Management and Budget pursuant to paragraph 4d of Appendix I to OMB Circular No. A-130, ‘Federal Agency Responsibilities for Maintaining Records about Individuals’, dated February 8, 1996 (February 20, 1996, 61 FR 6427).

Dated: February 25, 2002.
L.M. Bynum,
Alternate OSD Federal Register Liaison Officer, Department of Defense.

Notice of a Computer Matching Program Among the Defense Manpower Data Center, the Department of Defense, the Administration for Children and Families Department of Health and Human Service and State Public Assistance Agencies for Verification of Continued Eligibility for Public Assistance

A. Participating Agencies

Participants in this computer matching program are the Department of Health and Human Services (HHS) and the Department of Defense (DoD). The DHHS is the source agency, i.e., the activity disclosing the records for the purpose of the match. The DoD is the specific recipient activity or matching agency, i.e., the agency that actually performs the computer matching.

B. Purpose of the Match

Upon the execution of this agreement, ACF will disclose public assistance records, obtained from those SPAAs participating in the matching program, to DMDC to identify any Federal personnel, employed, serving, or retired, who are also receiving public assistance under the Medicaid, Temporary Assistance for Needy Families, general assistance and Food Stamp Programs. After matching has been conducted, ACF will provide matched data to the SPAAs who will use this information to verify the continued eligibility of individuals to receive public assistance benefits and, if ineligible, to take such action, as may be authorized by law and regulation.

C. Authority for Conducting the Match

The legal authority for conducting the matching program is contained in section 1137 of the Social Security Act (42 U.S.C. 1320b-7).

D. Records To Be Matched

The systems of records maintained by the respective agencies under the Privacy Act of 1974, as amended, 5 U.S.C. 552a, from which records will be disclosed for the purpose of this computer match are as follows:

1. Federal, but not State, agencies must publish system notices for “systems of records” pursuant to subsection (e)(4) of the Privacy Act and must identify “routine uses” pursuant to subsection (b)(3) of the Privacy Act for those systems of records from which they intend to disclose this information. The DoD system of records described below contains an appropriate routine use proviso, which permits disclosure of information by DMDC to ACF and the SPAAs.

2. DoD will use personal data from the record system identified as S322.10 DMDC, entitled “Defense Manpower Data Center Base,” last published in the Federal Register at 66 FR 29552, May 31, 2001.

3. DHHS will be disclosing to DMDC personal data it has collected from the SPAAs. No information will be disclosed from systems of records that ACF operates and maintains. DHHS will be disclosing to the SPAAs personal data it has received from DMDC. The DMDC supplied matched data will be disclosed by ACF pursuant to the DoD routine use.

E. Description of Computer Matching Program

ACF, as the source agency, will collect from the SPAAs electronic files containing the names and other personal identifying data of eligible public assistance beneficiaries. ACF will coordinate the input obtained from the SPAAs and will provide DMDC with similarly formatted electronic data files, which contain the names of individuals receiving public assistance benefits, and which can be processed as a single file. Upon receipt of the electronic files of SPAA beneficiaries, DMDC will perform a computer match using all nine digits of the SSN of the ACF/SPAA file against a DMDC computer database. The DMDC database consists of personnel records of non-postal Federal civilian employees and military members, both active and retired.

The “hits” or matches will be furnished by DMDC to ACF, who in turn, will disclose to the SPAAs any matched information pertaining to individuals receiving benefits from that State.

1. The electronic files provided by ACF and the SPAAs will contain data elements of the client’s name, SSN, date of birth, address, sex, marital status, number of dependents, information regarding the specific public assistance benefit being received, and such other data as considered necessary and on no more than 10,000,000 public assistance beneficiaries.

2. The DMDC computer database file contains approximately 4.53 million records of active duty and retired military members, including the Reserve and Guard, and approximately 3.45 million records of active and retired non-postal Federal civilian employees.

3. DMDC will match the SSN on the ACF/SPAA file by computer against the DMDC database. Matching records, “hits” based on SSNs, will produce data elements of the individual's name; SSN; active or retired; if active, military service or employing agency, and current work or home address, and such.

F. Inclusive Dates of the Matching Program

The effective date of the matching agreement and date when matching may actually begin shall be at the expiration of the 40-day review period for OMB and Congress, or 30 days after publication of the matching notice in the Federal Register, whichever date is later. The parties to this agreement may assume OMB and Congressional concurrence if no comments are received within 40 days of the date of the transmittal letter. The 40-day OMB and Congressional review period and the mandatory 30-day public comment period for the Federal Register publication of the notice will run concurrently. By agreement between DHHS and DoD, the matching program will be in effect for 18 months with an option to renew for 12 additional months unless one of the parties to the agreement advises the other by written request to terminate or modify the agreement.

G. Address for Receipt of Public Comments or Inquiries

Director, Defense Privacy Office, 1941 Jefferson Davis Highway, Suite 920, Arlington, VA 22202-4502. Telephone (703) 607-2943.

[FR Doc. 02-4987 Filed 3-1-02; 8:45 am]

BILLING CODE 5001-08-P